COMMISSION ON CIVIL RIGHTS

Agenda and Notice of Public Meeting of the District of Columbia Advisory Committee

AGENCY: Commission on Civil Rights.

ACTION: Announcement of briefing meeting.

SUMMARY: Notice is hereby given, pursuant to the provisions of the rules and regulations of the U.S. Commission on Civil Rights (Commission), and the Federal Advisory Committee Act (FACA), that a briefing meeting of the District of Columbia Advisory Committee to the Commission will convene at 9:00 a.m. (EST) on Thursday, November 7, 2019, in the Conference Room of the U.S. Commission on Civil Rights, National Place Building, 1331 Pennsylvania Avenue NW, 11th Floor, Washington, DC 20425 (the entrance is on F Street, NW, between 13th and 14th Streets, NW). The purpose of the briefing is to hear from mental health court experts, government officials, advocates, and members of the public about mental illness, mental health courts and the criminal justice system in the District of Columbia.

DATES: Thursday, November 7, 2019 (EST). Time: 9:00 a.m.-5:00 p.m. (EST).

ADDRESSES: Conference Room of the U.S. Commission on Civil Rights, National Place Building, 1331 Pennsylvania Avenue, 115th Floor, Washington, DC 20425 (the entrance is on F Street NW, between 13th and 14th Streets NW).

FOR FURTHER INFORMATION CONTACT: Evelyn Bohor at ebohor@usccr.gov, or 202-376-7533.

SUPPLEMENTARY INFORMATION: Time will be set aside at the conclusion of the panel presentations so that members of the public may address the Committee after the formal presentations have been completed. Persons interested in the issue are also invited to submit written comments and documents about the topic, which must be received in the regional office by Monday, December 9, 2019. Written comments may be mailed to the Eastern Regional Office, U.S. Commission on Civil Rights, 1331 Pennsylvania Avenue, Suite 1150, Washington, DC, 20425, or emailed to Evelyn Bohor at ero@usccr.gov. Persons who desire additional information may contact the Eastern Regional Office at (202) 376-7533. Persons attending the briefing and requiring accommodations, must contact Evelyn Bohor by phone (202-276-7533) or by email (ebohor@usccr.gov) at the Eastern Regional Office at least ten (10) business days before the scheduled date of the meeting.

Records and documents discussed during the meeting will be available for public viewing as they become available at: https://www.facadatabase.gov/FACA/FACAPublicViewCommitteeDetails?id=a10t0000001gzlKAAQ and clicking on the “Meeting Details” and “Documents” links. Records generated from this meeting may also be inspected and reproduced at the Eastern Regional Office, as they become available, both before and after the meeting. Persons interested in the work of this advisory committee are advised to go to the Commission's website, www.usccr.gov, or to contact the Eastern Regional Office at the above phone number, email or street address.

Agenda

Thursday, November 7, 2019; at 9:00 a.m. (EST)

I. Welcome and Introductions (9:00 a.m. through 9:15 a.m.)

II. Briefing (from approximately 9:15 a.m. through 4:00 p.m.)

III. Open Public Comments (begin at approximately 4:00 p.m.)

IV. Adjournment (at approximately 5:00 p.m.)

Dated: October 16, 2019.
David Mussatt,
Supervisory Chief, Regional Programs Unit.

[FR Doc. 2019-22959 Filed 10-21-19; 8:45 am]

BILLING CODE P